DEPARTMENT OF COMMERCE

International Trade Administration

[A-427-818]

Notice of Final Results of Antidumping Duty Administrative Review: Low Enriched Uranium From France

AGENCY: Import Administration, International Trade Administration, Department of Commerce.

SUMMARY: On March 7, 2005, the Department of Commerce (the Department) published the preliminary results of its second administrative review of the antidumping duty order on low enriched uranium (LEU) from France. The review covers one producer of the subject merchandise. The period of review (POR) is February 1, 2003, through January 31, 2004. Based on our analysis of the comments received, we have made changes to the preliminary results. For the final dumping margins see the “Final Results of Review” section below.

EFFECTIVE DATE: September 14, 2005.

FOR FURTHER INFORMATION CONTACT: Myrna Lobo or Elfi Blum at (202) 482-2371 or (202) 482-0197, respectively; AD/CVD Operations, Office 6, Import Administration, International Trade Administration, U.S. Department of Commerce, 14th Street & Constitution Avenue, NW., Washington, DC 20230.

SUPPLEMENTARY INFORMATION:

Background

On March 7, 2005, the Department published in the Federal Register the preliminary results of the second administrative review of the antidumping duty order on LEU from France. See Low Enriched Uranium From France: Preliminary Results of Antidumping Duty Administrative Review, 70 FR 10957 (March 7, 2005), (Preliminary Results).

We invited parties to comment on the Preliminary Results. On June 30, 2005, we received case briefs from the sole respondent, Eurodif S.A., Compagnie Générale Des Matières Nucléaires, S.A. and COGEMA, Inc. (collectively, Eurodif/COGEMA), and the petitioner, the United States Enrichment Corporation and USEC Inc. (collectively, USEC). Eurodif/COGEMA and USEC submitted their rebuttal briefs on July 8, 2005.

On June 15-17, 2005, the Department conducted verification of the information submitted by respondent on behalf of Électricité de France (EdF), an affiliated electricity supplier, and of the research and development (R&D) activities conducted by the Commissariat à l'Energie Atomique (CEA). Eurodif/COGEMA and USEC submitted comments to the verification report on July 22, 2005, and July 25, 2005, respectively. Eurodif/COGEMA submitted its rebuttal comments on July 28, 2005 (amended on August 2, 2005), and USEC submitted its rebuttal comments on July 27, 2005.

A hearing was held on August 4, 2005. At petitioner's request, a portion of the hearing was conducted on a closed basis, for purposes of discussing business proprietary information.

On August 25, 2005, the Department placed on the record of this review new information pertaining to USEC's R&D activities into centrifuge technology and invited the parties to comment. Eurodif/COGEMA and the petitioner filed their comments on August 29, 2005, and their rebuttals on August 31, 2005.

Scope of the Order

The product covered by this order is all low enriched uranium (LEU). LEU is enriched uranium hexafluoride (UF6) with a U ²³⁵ product assay of less than 20 percent that has not been converted into another chemical form, such as UO2, or fabricated into nuclear fuel assemblies, regardless of the means by which the LEU is produced (including LEU produced through the down-blending of highly enriched uranium).

Certain merchandise is outside the scope of this order. Specifically, this order does not cover enriched uranium hexafluoride with a U²³⁵ assay of 20 percent or greater, also known as highly enriched uranium. In addition, fabricated LEU is not covered by the scope of this order. For purposes of this order, fabricated uranium is defined as enriched uranium dioxide (UO 2), whether or not contained in nuclear fuel rods or assemblies. Natural uranium concentrates (U3O8) with a U²³⁵ concentration of no greater than 0.711 percent and natural uranium concentrates converted into uranium hexafluoride with a U²³⁵ concentration of no greater than 0.711 percent are not covered by the scope of this order.

Also excluded from this order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end-user.

The merchandise subject to this order is currently classifiable in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

Verification

As provided in section 782(i) of the Tariff Act of 1930, as amended (the Act), on June 15-17, 2005 we verified the information submitted by Eurodif/COGEMA regarding its POR purchases of electricity from EdF, and R&D expenses incurred during the POR by the CEA and attributable to Eurodif/COGEMA. We used standard verification procedures, including on-site examination of relevant accounting and production records and original source documents provided by Eurodif/COGEMA. Our verification results are outlined in the Memorandum to Neal M. Halper, Director, From Ernest Z. Gziryan, Senior Accountant; Ref.: Administrative Review of Low Enriched Uranium from France; Subj.: Verification Report on the Cost of Production Data Submitted by Electricité de France (July 11, 2005) (EdF Verification Report), and Memorandum to The File Through Dana Mermelstein From Elfi Blum: Verification of research and development expenses at the French Atomic Energy Commission (CEA) (July 11, 2005) (CEA Verification Report). Public versions of both reports are on file in the Import Administration Central Records Unit (CRU), in room B-099 of the Department of Commerce.

Analysis of Comments Received

The issues raised in all case and rebuttal briefs by parties to this administrative review are addressed in the Issues and Decision Memorandum to Joseph A. Spetrini, Acting Assistant Secretary for Import Administration, from Barbara E. Tillman, Acting Deputy Assistant Secretary for Import Administration (Decision Memorandum), which is hereby adopted by this notice. A list of the issues addressed in the Decision Memorandum is appended to this notice. The Decision Memorandum is on file in the CRU, and can be accessed directly on the Web at http://www.ia.ita.doc.gov. The paper copy and electronic version of the Decision Memorandum are identical in content.

Changes Since the Preliminary Results

Based on our analysis of comments received, we have made adjustments to the methodology used in calculating the final dumping margin. The adjustments are discussed in detail in the Decision Memorandum.

Final Results of Review

As a result of our review, we determine that the following weighted-average margin exists for the period of February 1, 2003, through January 31, 2004:

Manufacturer/Exporter | Margin (percent)
Eurodif/COGEMA | 12.62

Assessment

The Department will determine, and U.S. Customs and Border Protection (CBP) shall assess, antidumping duties on all appropriate entries, pursuant to 19 CFR 351.212(b). The Department calculated importer-specific duty assessment rates on the basis of the ratio of the total amount of antidumping duties calculated for the examined sales to the total entered value of the examined sales for that importer. Where the assessment rate is above de minimis, we will instruct CBP to assess duties on all entries of subject merchandise by that importer. The Department will not issue liquidation instructions for any entries of Eurodif merchandise until such time as the July 1, 2002, injunction issued by the Court of International Trade, is lifted.

Cash Deposits

Furthermore, the following deposit requirements will be effective upon publication of the final results of this administrative review for all shipments of LEU from France entered, or withdrawn from warehouse, for consumption on or after the publication date of these final results, as provided by section 751(a) of the Act: (1) For companies covered by this review, the cash deposit rate will be the rate listed above; (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and (4) if neither the exporter nor the producer is a firm covered in this review or in any previous segment of this proceeding, the cash deposit rate will be 19.95 percent, the “All Others” rate established in the less-than-fair-value investigation. These deposit requirements shall remain in effect until publication of the final results of the next administrative review.

Reimbursement

This notice also serves as a final reminder to importers of their responsibility under 19 CFR 351.402(f) to file a certificate regarding the reimbursement of antidumping duties prior to liquidation of the relevant entries during this review period. Failure to comply with this requirement could result in the Secretary's presumption that reimbursement of antidumping duties occurred, and in the subsequent assessment of double antidumping duties.

Notification Regarding Administrative Protective Orders

This notice is the only reminder to parties subject to the administrative protective order (APO) of their responsibility concerning the return or destruction of proprietary information disclosed under the APO in accordance with 19 CFR 351.305. Timely written notification of the return or destruction of APO materials or conversion to judicial protective order is hereby requested. Failure to comply with the regulations and the terms of an APO is a sanctionable violation.

We are issuing and publishing these results and notice in accordance with sections 751(a)(1) and 777(i)(1) of the Act.

Dated: September 6, 2005.
Joseph A. Spetrini,
Acting Assistant Secretary for Import Administration.

Appendix I—Issues in Decision Memorandum

Comment 1: Goods Versus Services

Comment 2: Eurodif's Cost of Purchases of Electricity From the Affiliated Supplier

Comment 3: Established Market Price for Electricity

Comment 4: Excluded Costs in EdF's Cost of Production

Comment 5: Cogema's R&D Expenses

Comment 6: CEA's R&D for Centrifuge Enrichment Technology

Comment 7: Use of USEC's Financial Statements

Comment 8: Goodwill Expenses in Constructed Value (CV) Profit

Comment 9: Inter-Company Sales as Part of Sales Revenues in CV Profit

Comment 10: Offset to COGEMA's Interest Expense for Income on Short-Term Investment

Comment 11: Date of Sale for Certain Deliveries

Comment 12: Cost of Uranium in the Calculation of CEP and CV

Comment 13: Indirect Selling Expense Rate

Comment 14: Attribution of Indirect Selling Expenses

Comment 15: Ministerial Error in the CV Calculation for G&A, Interest Rate, and CV Profit

[FR Doc. E5-5019 Filed 9-13-05; 8:45 am]

BILLING CODE 3510-DS-P